RAILROAD RETIREMENT BOARD

2025 Railroad Experience Rating Proclamations, Monthly Compensation Base and Other Determinations

AGENCY: Railroad Retirement Board.

ACTION: Notice.

SUMMARY: As required by the Railroad Unemployment Insurance Act (Act), the Railroad Retirement Board (RRB) hereby publishes its notice for calendar year 2025 of account balances, factors used in calculating experience-based employer contribution rates, computation of amounts related to the monthly compensation base, and the maximum daily benefit rate for days of unemployment or sickness.

DATES: The balance in notice (1) and the determinations made in notices (3) through (7) are based on data as of June 30, 2024. The balance in notice (2) is based on data as of September 30, 2024. The determinations made in notices (5) through (7) apply to the calculation, under section 8(a)(1)(C) of the Act, of employer contribution rates for 2025. The determinations made in notices (8) through (11) are effective January 1, 2025. The determination made in notice (12) is effective for registration periods beginning after June 30, 2025.

ADDRESSES: Secretary to the Board, Railroad Retirement Board, 844 N Rush Street, Chicago, Illinois 60611-1275.

FOR FURTHER INFORMATION CONTACT: Sheryl Enders, Bureau of the Actuary and Research, Railroad Retirement Board, 844 N Rush Street, Chicago, Illinois 60611-1275, telephone (312) 751-4729.

SUPPLEMENTARY INFORMATION: The RRB is required by section 8(c)(1) of the Railroad Unemployment Insurance Act (Act) (45 U.S.C. 358(c)(1)) as amended by Public Law 100-647, to proclaim by October 15 of each year certain system-wide factors used in calculating experience-based employer contribution rates for the following year. The RRB is further required by section 8(c)(2) of the Act (45 U.S.C. 358(c)(2)) to publish the amounts so determined and proclaimed. The RRB is required by section 12(r)(3) of the Act (45 U.S.C. 362(r)(3)) to publish by December 11, 2024, the computation of the calendar year 2025 monthly compensation base (section 1(i) of the Act) and amounts described in sections 1(k), 2(c), 3 and 4(a-2)(i)(A) of the Act which are related to changes in the monthly compensation base. Also, the RRB is required to publish, by June 11, 2025, the maximum daily benefit rate under section 2(a)(3) of the Act for days of unemployment and days of sickness in registration periods beginning after June 30, 2025.

Pursuant to section 8(c)(2) and section 12(r)(3) of the Railroad Unemployment Insurance Act (Act) (45 U.S.C. 358(c)(2) and 45 U.S.C. 362(r)(3), respectively), the Board gives notice of the following:

1. The accrual balance of the Railroad Unemployment Insurance (RUI) Account, as of June 30, 2024, is $454,806,922.20;

2. The September 30, 2024, balance of any new loans to the RUI Account, including accrued interest, is zero;

3. The system compensation base is $4,603,450,450.74 as of June 30, 2024;

4. The cumulative system unallocated charge balance is ($494,856,655.87) as of June 30, 2024;

5. The pooled credit ratio for calendar year 2025 is 0.83 percent;

6. The pooled charged ratio for calendar year 2025 is zero;

7. The surcharge rate for calendar year 2025 is zero;

8. The monthly compensation base under section 1(i) of the Act is $2,065 for months in calendar year 2025;

9. The amount described in sections 1(k) and 3 of the Act as “2.5 times the monthly compensation base” is $5,162.50 for base year (calendar year) 2025;

10. The amount described in section 4(a-2)(i)(A) of the Act as “2.5 times the monthly compensation base” is $5,162.50 with respect to disqualifications ending in calendar year 2025;

11. The amount described in section 2(c) of the Act as “an amount that bears the same ratio to $775 as the monthly compensation base for that year as computed under section 1(i) of this Act bears to $600” is $2,667 for months in calendar year 2025;

12. The maximum daily benefit rate under section 2(a)(3) of the Act is $99 with respect to days of unemployment and days of sickness in registration periods beginning after June 30, 2025.

Surcharge Rate

A surcharge is added in the calculation of each employer's contribution rate, subject to the applicable maximum rate, for a calendar year whenever the balance to the credit of the RUI Account on the preceding June 30 is less than the greater of $100 million or the amount that bears the same ratio to $100 million as the system compensation base for that June 30 bears to the system compensation base as of June 30, 1991. If the RUI Account balance is less than $100 million (as indexed), but at least $50 million (as indexed), the surcharge will be 1.5 percent. If the RUI Account balance is less than $50 million (as indexed), but greater than zero, the surcharge will be 2.5 percent. The maximum surcharge of 3.5 percent applies if the RUI Account balance is less than zero.

The ratio of the June 30, 2024 system compensation base of $4,603,450,450.74 to the June 30, 1991 system compensation base of $2,763,287,237.04 is 1.66593266. Multiplying 1.66593266 by $100 million yields $166,593,266.00. Multiplying $50 million by 1.66593266 produces $83,296,633.00. The Account balance on June 30, 2024, was $454,806,922.20. Accordingly, the surcharge rate for calendar year 2025 is zero.

Pooled Credit

A pooled credit is applied in the calculation of each employer's contribution rate, subject to the applicable minimum rate, for a calendar year whenever the balance to the credit of the RUI Account on the preceding June 30 is more than the greater of $250 million or the amount that bears the same ratio to $250 million as the system compensation base for that June 30 bears to the system compensation base as of June 30, 1991. If the balance is more than the greater of $250 million or the indexed $250 million, the excess amount is divided by the system compensation base for the preceding calendar year, resulting in the pooled credit amount.

The ratio of the June 30, 2024 system compensation base of $4,603,450,450.74 to the June 30, 1991 system compensation base of $2,763,287,237.04 is 1.66593266. Multiplying 1.66593266 by $250 million yields $416,483,165.00. The Account balance on June 30, 2024, was $454,806,922.20. The difference between the indexed threshold and the Account balance is $38,323,757.20. Dividing $38,323,757.20 by $4,603,450,450.74 yields 0.0083, or 0.83 percent, the pooled credit amount for 2025.

Monthly Compensation Base

For years after 1988, section 1(i) of the Act contains a formula for determining the monthly compensation base. Under the prescribed formula, the monthly compensation base increases by approximately two-thirds of the cumulative growth in average national wages since 1984. The monthly compensation base for months in calendar year 2025 shall be equal to the greater of (a) $600 or (b) $600 [1 + {(A −37,800)/56,700}], where A equals the amount of the applicable base with respect to tier 1 taxes for 2025 under section 3231(e)(2) of the Internal Revenue Code of 1986. Section 1(i) further provides that if the amount so determined is not a multiple of $5, it shall be rounded to the nearest multiple of $5.

Using the calendar year 2025 tier 1 tax base of $176,100 for A above produces the amount of $2,063.49, which must then be rounded to $2,065. Accordingly, the monthly compensation base is determined to be $2,065 for months in calendar year 2025.

Amounts Related to Changes in Monthly Compensation Base

For years after 1988, sections 1(k), 3, 4(a-2)(i)(A) and 2(c) of the Act contain formulas for determining amounts related to the monthly compensation base.

Under section 1(k), remuneration earned from employment covered under the Act cannot be considered subsidiary remuneration if the employee's base year compensation is less than 2.5 times the monthly compensation base for months in such base year. Under section 3, an employee shall be a “qualified employee” if his/her base year compensation is not less than 2.5 times the monthly compensation base for months in such base year. Under section 4(a-2)(i)(A), an employee who leaves work voluntarily without good cause is disqualified from receiving unemployment benefits until he has been paid compensation of not less than 2.5 times the monthly compensation base for months in the calendar year in which the disqualification ends.

Multiplying 2.5 by the calendar year 2025 monthly compensation base of $2,065 produces $5,162.50. Accordingly, the amount determined under sections 1(k), 3 and 4(a-2)(i)(A) is $5,162.50 for calendar year 2025.

Under section 2(c), the maximum amount of normal benefits paid for days of unemployment within a benefit year and the maximum amount of normal benefits paid for days of sickness within a benefit year shall not exceed an employee's compensation in the base year. In determining an employee's base year compensation, any money remuneration in a month not in excess of an amount that bears the same ratio to $775 as the monthly compensation base for that year bears to $600 shall be taken into account.

The calendar year 2025 monthly compensation base is $2,065. The ratio of $2,065 to $600 is 3.44166667. Multiplying 3.44166667 by $775 produces $2,667. Accordingly, the amount determined under section 2(c) is $2,667 for months in calendar year 2025.

Maximum Daily Benefit Rate

Section 2(a)(3) contains a formula for determining the maximum daily benefit rate for registration periods beginning after June 30, 1989, and after each June 30 thereafter. Legislation enacted on October 9, 1996, revised the formula for indexing maximum daily benefit rates. Under the prescribed formula, the maximum daily benefit rate increases by approximately two-thirds of the cumulative growth in average national wages since 1984. The maximum daily benefit rate for registration periods beginning after June 30, 2025, shall be equal to 5 percent of the monthly compensation base for the base year immediately preceding the beginning of the benefit year. Section 2(a)(3) further provides that if the amount so computed is not a multiple of $1, it shall be rounded down to the nearest multiple of $1.

The calendar year 2024 monthly compensation base is $1,985. Multiplying $1,985 by 0.05 yields $99.25. Accordingly, the maximum daily benefit rate for days of unemployment and days of sickness beginning in registration periods after June 30, 2025, is determined to be $99.

By Authority of the Board.
Stephanie Hillyard,
Secretary to the Board.

[FR Doc. 2024-27066 Filed 11-19-24; 8:45 am]

BILLING CODE 7905-01-P